DEPARTMENT OF ENERGY

Federal Energy Regulatory Commission

[Docket No. EG06-70-000]

White Creek Wind I, LLC; Tolling Notice

October 3, 2006.

White Creek Wind I, LLC (White Creek Wind) filed a notice of self-certification of exempt wholesale generator (EWG) status in this proceeding on August 4, 2006. The Commission has determined that additional information is required to process the notice of self-certification and therefore cannot process the self-certification within 60 days from the date of filing, i.e., by October 3, 2006. Accordingly, the Commission hereby tolls the initial 60-day review period to allow additional time for submission of the information within 7 days from the date of this notice. White Creek Wind has temporary EWG status pursuant to the Commission's regulations. See 18 CFR 366.7(a ) (2006). If the Commission takes no further action within 30 days from the date of this notice, then the self-certification shall be deemed to have been granted.

Magalie R. Salas,
Secretary.

[FR Doc. E6-16762 Filed 10-10-06; 8:45 am]

BILLING CODE 6717-01-P